DEPARTMENT OF COMMERCE

International Trade Administration

[A-570-863]

Notice of Preliminary Results of Antidumping Duty New Shipper Reviews: Honey From the People's Republic of China

AGENCY: Import Administration, International Trade Administration, Department of Commerce.

ACTION: Notice of Preliminary Results of Antidumping Duty New Shipper Review.

SUMMARY: In response to requests from Anhui Honghui Foodstuff (Group) Co., Ltd. (Anhui Honghui), Eurasia Bee's Products Co., Ltd. (Eurasia), Inner Mongolia Youth Trade Development Co., Ltd. (Inner Mongolia Youth), and Jiangsu Kanghong Natural Healthfoods Co., Ltd. (Jiangsu Kanghong), the U.S. Department of Commerce (the Department) is conducting new shipper reviews of the antidumping duty order on honey from the People's Republic of China (PRC). The period of review (POR) is December 1, 2002, through November 30, 2003. The preliminary results are listed below in the section titled “Preliminary Results of Review.” Interested parties are invited to comment on these preliminary results.

EFFECTIVE DATE: November 29, 2004.

FOR FURTHER INFORMATION CONTACT: Kristina Boughton (for Anhui Honghui and Eurasia) at (202) 482-8173 or Anya Naschak (for Inner Mongolia Youth and Jiangsu Kanghong) at (202) 482-6375; Office of Antidumping and Countervailing Operations, China/NME Group, Office Nine, Import Administration, International Trade Administration, U.S. Department of Commerce, 14th Street and Constitution Avenue NW., Washington, DC 20230.

SUPPLEMENTARY INFORMATION:

Background

On December 10, 2001, the Department published in the Federal Register an antidumping duty order on honey from the PRC. See Notice of Amended Final Determination of Sales at Less Than Fair Value and Antidumping Duty Order; Honey from the People's Republic of China, 66 FR 63670 (December 10, 2001). The Department received timely requests from Anhui Honghui, Eurasia, Foodworld International Club Limited (Foodworld), Inner Mongolia Youth, Jiangsu Kanghong, and Shanghai Shinomiel International Trade Corporation (Shanghai Shinomiel), in accordance with 19 CFR 351.214(c), for new shipper reviews of the antidumping duty order on honey from the PRC, which has a December annual anniversary month and a June semi-annual anniversary month. On January 30, 2004, the Department found that the requests for review with respect to Anhui Honghui, Eurasia, Inner Mongolia Youth, and Jiangsu Kanghong met all the regulatory requirements set forth in 19 CFR 351.214(b) and initiated these new shipper antidumping duty reviews. The Department did not initiate a new shipper review for Foodworld because its shipment had not entered the United States by the date of initiation, nor for Shanghai Shinomiel because the Department determined that it was not a new shipper. See Honey From the People's Republic of China: Initiation of New Shipper Antidumping Duty Reviews, 69 FR 5835 (February 6, 2004).

On February 4, 2004, we issued antidumping duty questionnaires to Anhui Honghui, Eurasia, Inner Mongolia Youth, and Jiangsu Kanghong. On February 13, 2004, we issued supplemental questionnaires to Anhui Honghui and Jiangsu Kanghong. On February 27, 2004, we received information from Anhui Honghui and Jiangsu Kanghong regarding intra-company sales. On March 16, 2004, we received a response to Section A of our antidumping duty questionnaire from Inner Mongolia Youth. On March 17, 2004, we received responses to Section A of our antidumping duty questionnaire from Anhui Honghui, Eurasia, and Jiangsu Kanghong.

On March 25, 2004, we invited interested parties to comment on the Department's surrogate country selection and/or significant production in the potential countries and to submit publicly available information to value the factors of production.

On March 30, 2004, we received a response to Sections C and D of our antidumping duty questionnaire from Inner Mongolia Youth. On March 31, 2004, we received responses to Sections C and D of our antidumping duty questionnaire from Anhui Honghui, Eurasia, and Jiangsu Kanghong and, where applicable, from their U.S. affiliates and/or the respective importers.

On March 30 and April 1 and 13, 2004, the American Honey Producers Association and the Sioux Honey Association (collectively, the petitioners) submitted comments on the respondents' questionnaire responses.

On April 15, 2004, the petitioners submitted comments on the selection of the proper surrogate country.

On April 16, 2004, we issued a supplemental questionnaire to Inner Mongolia Youth. On April 16 and 23, 2004, we issued supplemental questionnaires to Anhui Honghui and Jiangsu Kanghong. On April 19 and 23, 2004, we issued supplemental questionnaires to Eurasia. We also issued questionnaires to the respondents' U.S. customers on April 28, 2004. On April 30, 2004, we received a response to our supplemental questionnaire from Inner Mongolia Youth. On May 3, 2004, we received responses to our supplemental questionnaires from Anhui Honghui and Jiangsu Kanghong. On May 6 and 7, 2004, we received a response to our supplemental questionnaire from Eurasia. We received responses to our questionnaires to U.S. customers on May 7, 2004.

On May 10, 2004, the petitioners and respondents submitted comments on surrogate information with which to value the factors of production in this proceeding.

On May 12, 2004, the petitioners submitted comments on the respondents' supplemental questionnaire responses. On May 14, 2004, we issued a second supplemental questionnaire to Eurasia. On May 17, 2004, we issued a second supplemental questionnaire to Inner Mongolia Youth.

On May 20, 2004, the respondents commented on the petitioners' surrogate value submission.

On May 21, 2004, we issued a third supplemental questionnaire to Eurasia. On May 21, 2004, we issued a second supplemental questionnaire to Jiangsu Kanghong. On May 24, 2004, we received a second supplemental questionnaire response from Inner Mongolia Youth. On May 26, 2004, we issued a second supplemental questionnaire to Anhui Honghui.

On May 28, 2004, the petitioners submitted rebuttal comments to the respondents' arguments on surrogate values. Also on May 28, 2004, we received a response to our supplemental questionnaire from Jiangsu Kanghong.

On June 1, 2004, the Department published in the Federal Register a notice of extension of the preliminary results until no later than September 27, 2004. See Notice of Extension of Preliminary Results of New Shipper Antidumping Duty Reviews: Honey from the People's Republic of China, 69 FR 30881 (June 1, 2004).

On June 2 through 15, 2004, we notified the respondents of our intent to conduct verification of their responses and provided each company with a verification outline for purposes of familiarizing the companies with the verification process.

On June 14 through 18, 2004, the Department conducted verification of the information submitted by Inner Mongolia Youth and its unaffiliated producer, Qinhuangdao Municipal Dafeng Industrial Co., Ltd. (QDI).

On June 14, 2004, we issued a third supplemental questionnaire to Anhui Honghui and Jiangsu Kanghong. We received a response to these questionnaires on June 17, 2004.

On June 21 through 25, 2004, the Department conducted verification of the information submitted by Jiangsu Kanghong and Anhui Honghui.

On June 22, 2004, Jiangsu Kanghong submitted for the record minor corrections to its responses presented to the Department at the start of verification. On June 24, 2004, Anhui Honghui submitted minor corrections to its responses presented to the Department at the start of verification.

On June 28, through July 2, 2004, the Department conducted verification of the information submitted by Eurasia and its unaffiliated producer, Chuzhou Huadi Foodstuffs Co., Ltd. (Chuzhou Huadi).

On June 29, 2004, Eurasia submitted minor corrections to its responses which it presented to the Department's verifiers at the start of verification.

On July 1 and 6, 2004, we notified the U.S. affiliates of Jiangsu Kanghong and Anhui Honghui, respectively, of our intent to conduct verification of their responses and provided each company with a verification outline for purposes of familiarizing the companies with the verification process. On July 8 and 9, 2004, the Department conducted verification of the information submitted by Jiangsu Kanghong's U.S. affiliate, B. Master, Inc. (B. Master). On July 14 through 16, 2004, the Department conducted verification of the information submitted by Anhui Honghui's U.S. affiliate, Hong Hui Group (USA) Corp.

On July 26, 2004, we issued the verification report for Inner Mongolia Youth and its unaffiliated producer. See Memorandum to the File from Anya Naschak and Rachel Kreissl, dated July 26, 2004, entitled “Verification of Factors of Production for Qinhuangdao Municipal Dafeng Industrial Co., Ltd. (“QDI”) and Sales of Inner Mongolia Youth Trade Development Co., Ltd. (“IMY”) in the New Shipper Review of Honey from the People's Republic of China (“PRC”)” (Inner Mongolia Youth Verification Report).

On August 12, 2004, we issued the verification report for Jiangsu Kanghong and its U.S. affiliate. See Memorandum to the File from Salim Bhabhrawala and Anya Naschak, dated August 12, 2004, entitled “Verification of Sales and Factors of Production Data Submitted by Jiangsu Kanghong Natural Healthfoods Co., Ltd. (Jiangsu) and its affiliate B. Master, Inc. (B. Master)” (Jiangsu Kanghong Verification Report).

On August 25, 2004, we issued the verification reports for Anhui Honghui and its U.S. affiliate. See Memoranda to the File from Jim Nunno and Kristina Boughton, dated August 25, 2004, entitled “Verification of U.S. Sales and Factors of Production for Respondent Anhui Honghui Foodstuff (Group) Co., Ltd. (Anhui Honghui)” (Anhui Honghui Verification Report) and “Sales Verification of Questionnaire Responses Submitted by Anhui Honghui Foodstuff (Group) Co., Ltd. (Anhui Honghui) on behalf of its U.S. affiliate, Hong Hui Group (USA) Corp. (Hong Hui USA)” (Hong Hui USA Verification report).

On August 26, 2004, we issued the verification reports for Eurasia and its unaffiliated producer. See Memoranda to the File from Jim Nunno and Kristina Boughton, dated August 26, 2004, entitled “Verification of U.S. Sales and Factors of Production for Respondent Eurasia Bee's Products Co., Ltd. (Eurasia)” (Eurasia Verification Report) and “Verification of Factors of Production for Respondent Chuzhou Huadi Foodstuffs Co., Ltd. (Chuzhou Huadi)” (Chuzhou Huadi verification report).

On September 24, 2004, the Department extended the time limits to complete the Preliminary Results of this new shipper review until November 19, 2004. See Notice of Extension of Preliminary Results of New Shipper Antidumping Duty Reviews: Honey from the People's Republic of China, 69 FR 58893 (October 1, 2004).

Scope of the Order

The products covered by these reviews are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise subject to these reviews are currently classifiable under subheadings 0409.00.00, 1702.90.90, and 2106.90.99 of the Harmonized Tariff Schedule of the United States (HTSUS). Although the HTSUS subheadings are provided for convenience and the customs purposes, the Department's written description of the merchandise under order is dispositive.

Verification

As provided in section 782(i)(3) of the Act and section 351.307 of the Department's regulations and as stated above, we conducted verification of the questionnaire responses of Anhui Honghui, Eurasia, Inner Mongolia Youth, and Jiangsu Kanghong during June and July 2004. We used standard verification procedures, including on-site inspections of the production facilities and examination of relevant sales and financial records. Our verification results are outlined in the verification reports, public versions of which are on file in the Central Records Unit (CRU) located in room B-099 of the Main Commerce Building.

New Shipper Status

Consistent with our practice, we investigated the bona fide nature of the sales made by Anhui Honghui, Eurasia, Inner Mongolia Youth, and Jiangsu Kanghong for these new shipper reviews. We found no evidence that the sales in question are not bona fide sales. Based on our investigation into the bona fide nature of the sales, the questionnaire responses submitted by each company, and our verification thereof, we preliminarily determine that each of the respondents has met the requirements to qualify as a new shipper during the POR. We have determined that each respondent made its first sale and/or shipment of subject merchandise to the United States during the POR, and that it was not affiliated with any exporter or producer that had previously shipped subject merchandise to the United States. Therefore, for purposes of these preliminary results of review, we are treating the respondents' sales of honey to the United States as appropriate transactions for these new shipper reviews.

Separate Rates

In proceedings involving nonmarket economy (NME) countries, the Department begins with a presumption that all companies within the country are subject to government control and, thus, should be assigned a single antidumping duty rate (i.e., a PRC-wide entity rate) unless an exporter can affirmatively demonstrate an absence of government control, both in law (de jure) and in fact (de facto), with respect to its export activities. To establish whether a company is sufficiently independent in its export activities from government control to be entitled to a separate, company-specific rate, the Department analyzes the exporting entity in an NME country under the test established in the Final Determination of Sales at Less Than Fair Value: Sparklers from the People's Republic of China, 56 FR 20588, 20589 (May 6, 1991) (Sparklers), and amplified by the Final Determination of Sales at Less Than Fair Value: Silicon Carbide from the People's Republic of China, 59 FR 22585, 22586-22587 (May 2, 1994) (Silicon Carbide).

In these reviews, Anhui Honghui, Eurasia, Inner Mongolia Youth, and Jiangsu Kanghong requested a separate company-specific rate, and provided separate-rate information in their responses to our original and supplemental questionnaires. Accordingly, we performed a separate-rates analysis to determine whether each producer/exporter is independent from government control. See Notice of Final Determination of Sales at Less Than Fair Value: Bicycles from the People's Republic of China, 61 FR 56570 (April 30, 1996).

De Jure Control

The Department considers the following de jure criteria in determining whether an individual company may be granted a separate rate: (1) An absence of restrictive stipulations associated with an individual exporter's business and export licenses; (2) any legislative enactments decentralizing control of companies; and (3) any other formal measures by the government decentralizing control of companies. See Sparklers, 56 FR 20588, 20589.

Each respondent has placed on the record a number of documents to demonstrate absence of de jure control, including the “Company Law of the People's Republic of China” (December 29, 1993), the “Foreign Trade Law of the People's Republic of China” (May 12, 1994), and the “Administrative Regulations of the People's Republic of China Governing the Registration of Legal Corporations” (June 3, 1988). The Department has analyzed such PRC laws and found that they establish an absence of de jure control. See, e.g., Preliminary Results of New Shipper Review: Certain Preserved Mushrooms from the People's Republic of China, 66 FR 30695, 30696 (June 7, 2001). At verification, we found that each respondent's business license and “Certificate of Approval” for enterprises with foreign trade rights in the PRC were granted in accordance with these laws. Moreover, the results of verification support the information provided regarding these PRC laws. For further information, see the company-specific verification reports. Therefore, we preliminarily determine that there is an absence of de jure control over each respondent's export activities.

De Facto Control

Typically, the Department considers four factors in evaluating whether a respondent is subject to de facto governmental control of its export functions: (1) Whether the export prices are set by, or subject to, the approval of a governmental authority; (2) whether the respondent has authority to negotiate and sign contracts, and other agreements; (3) whether the respondent has autonomy from the government in making decisions regarding the selection of its management; and (4) whether the respondent retains the proceeds of its export sales and makes independent decisions regarding disposition of profits or financing of losses. See Silicon Carbide at 22587.

As stated in previous cases, there is some evidence that certain enactments of the PRC central government have not been implemented uniformly among different sectors and/or jurisdictions in the PRC. See Silicon Carbide at 22586-22587. Therefore, the Department has determined that an analysis of de facto control is critical in determining whether respondents are, in fact, subject to a degree of governmental control which would preclude the Department from assigning separate rates.

Anhui Honghui has asserted the following: (1) It is a privately owned company; (2) there is no government participation in its setting of export prices; (3) its chief executive officers and authorized employees have the authority to bind sales contracts; (4) it does not have to notify any government authorities of its management selection; (5) there are no restrictions on the use of its export revenue; and (6) it is responsible for financing its own losses. Anhui Honghui's questionnaire responses do not suggest that pricing is coordinated among exporters of PRC honey.

Eurasia has asserted the following: (1) It is a privately owned limited liability company; (2) there is no government participation in its setting of export prices; (3) its general manager has the authority to bind sales contracts; (4) it does not have to notify any government authorities of its management selection; (5) there are no restrictions on the use of its export revenue; and (6) it is responsible for financing its own losses. Eurasia's questionnaire responses do not suggest that pricing is coordinated among exporters of PRC honey.

Inner Mongolia Youth has asserted the following: (1) It is a privately owned company; (2) there is no government participation in its setting of export prices; (3) its chief executive officers and authorized employees have the authority to bind sales contracts; (4) it does not have to notify any government authorities of its management selection; (5) there are no restrictions on the use of its export revenue; and (6) it is responsible for financing its own losses. Inner Mongolia Youth's questionnaire responses do not suggest that pricing is coordinated among exporters of PRC honey.

Jiangsu Kanghong has asserted the following: (1) It is a privately owned limited liability company (2) there is no government participation in its setting of export prices; (3) its general manager has the authority to bind sales contracts; (4) it does not have to notify any government authorities of its management selection; (5) there are no restrictions on the use of foreign currency earned; and (6) its executive director decides how profits will be used. Jiangsu Kanghong's questionnaire responses do not suggest that pricing is coordinated among exporters of PRC honey.

Furthermore, our analysis of the responses during verification reveal no other information indicating the existence of government control. See the company-specific verification reports for further information. Consequently, because evidence on the record indicates an absence of government control, both in law and in fact, over each respondent's export activities, we preliminarily determine that each respondent has met the criteria for the application of a separate rate.

Normal Value Comparisons

To determine whether the respondents' sales of the subject merchandise to the United States were made at prices below normal value, we compared their U.S. price to normal value, as described in the “U.S. Price” and “Normal Value” sections of this notice.

U.S. Price

Export Price

For Eurasia, Inner Mongolia Youth, and certain sales made by Jiangsu Kanghong, we based the U.S. price on export price (EP), in accordance with section 772(a) of the Act, because the first sale to an unaffiliated purchaser was made prior to importation, and constructed export price (CEP) was not otherwise warranted by the facts on the record. We calculated EP based on the packed price from the exporter to the first unaffiliated customer in the United States.

For Eurasia, we deducted foreign inland freight, foreign brokerage and handling expenses, international ocean freight, marine insurance, U.S. brokerage and handling, U.S. import duties, U.S. inland freight expenses, and commission expenses from the starting price (gross unit price), in accordance with section 772(c) of the Act. For Inner Mongolia Youth, we deducted foreign inland freight and foreign brokerage and handling expenses from the starting price (gross unit price), in accordance with section 772(c) of the Act. For Jiangsu Kanghong, where applicable, we deducted foreign inland freight, foreign brokerage and handling expenses, international ocean freight, U.S. brokerage and handling, and U.S. import duties from the starting price (gross unit price), in accordance with section 772(c) of the Act.

As all foreign inland freight, foreign brokerage and handling, and marine insurance expenses (where applicable) were provided by PRC service providers or paid for in renminbi, we valued these services using Indian surrogate values (see “Factors of Production” section below for further discussion). For international freight (where applicable) we used the reported expense because the respondents used market-economy freight carriers and paid for those expenses in a market-economy currency.

Constructed Export Price

For Anhui Honghui, we calculated CEP in accordance with section 772(b) of the Act, because the sales were made on behalf of Anhui Honghui by its U.S. affiliate to unaffiliated purchasers. We based CEP on packed, delivered or ex-warehouse prices to the first unaffiliated purchaser in the United States. Where appropriate, we made deductions from the starting price (gross unit price) for movement expenses in accordance with section 772(c)(2)(A) of the Act; these included foreign inland freight, foreign brokerage and handling charges, international ocean freight, marine insurance, U.S. brokerage and handling, U.S. import duties, and U.S. inland freight expenses. As all foreign inland freight, foreign brokerage and handling, and marine insurance expenses were provided by PRC service providers and/or paid for in renminbi, we valued these services using Indian surrogate values. For international freight, we used the reported expense because the respondent used market-economy freight carriers and paid for those expenses in a market-economy currency.

In accordance with section 772(d)(1) of the Act, we also deducted those selling expenses associated with economic activities occurring in the United States, including direct selling expenses (credit expenses) and indirect selling expenses. We also made an adjustment for profit in accordance with section 772(d)(3) of the Act.

For Jiangsu Kanghong, we also calculated CEP in accordance with section 772(b) of the Act. We found that some of Jiangsu Kanghong's sales during the POR were CEP sales because the sales were made on behalf of Jiangsu Kanghong by its U.S. affiliate to unaffiliated purchasers. We based CEP on packed, delivered or ex-warehouse prices to the first unaffiliated purchaser in the United States. Where appropriate, we made deductions from the starting price (gross unit price) for movement expenses in accordance with section 772(c)(2)(A) of the Act; these included, where appropriate, foreign inland freight and foreign brokerage and handling charges, international ocean freight, U.S. brokerage and handling fees, U.S. import duties, and U.S. inland freight expenses. As all foreign inland freight and foreign brokerage and handling expenses were provided by PRC service providers or paid for in renminbi, we valued these services using Indian surrogate values (see “Factors of Production” section below for further discussion). For international freight, we used the reported expense because the respondent used market-economy freight carriers and paid for those expenses in a market-economy currency.

In accordance with section 772(d)(1) of the Act, we also deducted those selling expenses associated with economic activities occurring in the United States, including direct selling expenses (credit expenses and lab test expenses) and indirect selling expenses. We also made an adjustment for profit in accordance with section 772(d)(3) of the Act.

For a more detailed explanation of the company-specific adjustments that we made in the calculation of the dumping margins for these preliminary results, see the company-specific preliminary results analysis memoranda dated November 19, 2004. Public versions of these memoranda are on file in the CRU.

Normal Value

A. Non-Market-Economy Status

In every case conducted by the Department involving the PRC, the PRC has been treated as an NME country. Pursuant to section 771(18)(C)(i) of the Act, any determination that a foreign country is an NME country shall remain in effect until revoked by the administering authority. See Tapered Roller Bearings and Parts Thereof, Finished and Unfinished, from the People's Republic of China: Preliminary Results 2001-2002 Administrative Review and Partial Rescission of Review, 68 FR 7500 (February 14, 2003). None of the parties to these reviews have contested such treatment. Accordingly, we calculated NV in accordance with section 773(c) of the Act, which applies to NME countries.

B. Surrogate Country

Section 773(c)(4) of the Act requires the Department to value an NME producer's factors of production, to the extent possible, in one or more market-economy countries that (1) are at a level of economic development comparable to that of the NME country, and (2) are significant producers of comparable merchandise. India is among the countries comparable to the PRC in terms of overall economic development, as identified in the February 24, 2004, Memorandum from the Office of Policy to Abdelali Elouaradia.¹ In addition, based on publicly available information placed on the record (e.g., world production data), India is a significant producer of the subject merchandise. Accordingly, we considered India the surrogate country for purposes of valuing the factors of production because it meets the Department's criteria for surrogate-country selection. See Memorandum to the file from Anya Naschak through James Doyle entitled, “Selection of a Surrogate Country,” dated November 19, 2004.

¹ This memorandum is attached to the letters sent to interested parties to this proceeding requesting comments on surrogate country and surrogate value information, dated March 25, 2004.

C. Factors of Production

In accordance with section 773(c) of the Act, we calculated NV based on the factors of production which included, but were not limited to: (A) Hours of labor required; (B) quantities of raw materials employed; (C) amounts of energy and other utilities consumed; and (D) representative capital costs, including depreciation. We used factors of production reported by the producer or exporter for materials, energy, labor, and packing. To calculate NV, we multiplied the reported unit factor quantities by publicly available Indian values.

In selecting the surrogate values, we considered the quality, specificity, and contemporaneity of the data, in accordance with our practice. When we used publicly available import data from the Ministry of Commerce of India (Indian Import Statistics), for December 2002 through November 2003 to value inputs sourced domestically by PRC suppliers, we added to the Indian surrogate values a surrogate freight cost calculated using the shorter of the reported distance from the domestic supplier to the factory or the distance from the nearest port of export to the factory. This adjustment is in accordance with the Court of Appeals for the Federal Circuit's decision in Sigma Corp. v. United States, 117 F. 3d 1401, 1408 (Fed. Cir. 1997). When we used non-import surrogate values for factors sourced domestically by PRC suppliers, we based freight for inputs on the actual distance from the input supplier to the site at which the input was used. In instances where we relied on Indian import data to value inputs, in accordance with the Department's practice, we excluded imports from both NME countries and countries deemed to maintain broadly available, non-industry-specific subsidies which may benefit all exporters to all export markets (i.e., Indonesia, South Korea, and Thailand) from our surrogate value calculations. See, e.g., Final Determination of Sales at Less Than Fair Value: Certain Automotive Replacement Glass Windshields from the People's Republic of China, 67 FR 6482 (February 12, 2002) and accompanying Issues and Decision Memorandum at Comment 1. See, also, Notice of Preliminary Determination of Sales at Less Than Fair Value, Postponement of Final Determination, and Affirmative Preliminary Determination of Critical Circumstances: Certain Color Television Receivers from the People's Republic of China, 68 FR 66800, 66808 (November 28, 2003), unchanged in the Department's final results at 69 FR 20594 (April 16, 2004). Also consistent with our policy, we excluded, in a few instances, import data that appeared to be aberrational when compared to the average import value of all countries not excluded. See Notice of Final Determination of Sales at Less Than Fair Value: Certain Color Television Receivers from the People's Republic of China, 69 FR 20594, April 16, 2004, and accompanying Issues and Decision Memorandum at Comment 5. See Memorandum to the File, through James Doyle, Office Director, entitled, “Factors of Production Valuation Memorandum for the Preliminary Results of the Antidumping Duty New Shipper Review of Honey from the People's Republic of China,” dated November 19, 2004 (Factor Valuation Memo), for a complete discussion of the import data that we excluded from our calculation of surrogate values. This memorandum is on file in the CRU located in room B-099 of the Main Commerce Building.

Where we could not obtain publicly available information contemporaneous with the POR to value factors, we adjusted the surrogate values using the Indian Wholesale Price Index (WPI) as published in the International Financial Statistics (IFS) of the International Monetary Fund (IMF), for those surrogate values in Indian rupees. We converted all surrogate values denominated in foreign currencies to U.S. dollars using the applicable average exchange rate for the POR. We based the average exchange rates on exchange rate data from the Import Administration Web site at http://ia.ita.doc.gov/exchange/index.html. See Factor Valuation Memo.

We valued the factors of production as follows:

To value raw honey, we used the average of two raw honey prices, provided in an article published in The Tribune (of India) on December 15, 2003, entitled, “Honey sweet despite price fall.” A copy of the original article, which was submitted by the petitioners, is attached at Attachment 3 of the Factor Valuation Memo. The respondents in this review submitted other news articles to be used as potential sources for the surrogate value data for raw honey, including an article from the Hindu Business Line dated April 2003 and an article from IndiaInfoline.com dated September 2003. We have not used either of these alternate sources proposed by respondents in the preliminary results, as discussed in the Factor Valuation Memo.

In selecting the raw honey values from The Tribune (of India) article as the best available information with which to value raw honey in this proceeding, we note that the Department has conducted extensive research on potential raw honey surrogate values for these new shipper reviews. The relevant research is included as Attachment 17 of the Factor Valuation Memo. Additionally, the Department contacted U.S. Foreign Agriculture Service (FAS) officers in India to conduct research on its behalf (see Memorandum to the File from Anya Naschak, dated November 19, 2004). The information obtained from these FAS officers included price quotes from the North India Beekeepers Society (NIBS). The Department also evaluated the reasonableness of using Mahabaleshwar Honey Producers Cooperative Society, Ltd.'s (MHPC) cost of raw honey from its financial statements. None of these other sources of information are as reliable as the raw honey values appearing in The Tribune (of India) article. Specifically, the Department cannot confirm the quality or reliability of the NIBS values, and the MHPC price is that of a single producer. In addition, we note that “the Department's preference is to use industry-wide values, rather than the values of a single producer, wherever possible, because industry-wide values are more representative of prices/costs of all producers in the surrogate country.” See Notice of Final Determination of Sales at Less Than Fair Value: Honey from the People's Republic of China, 66 FR 50608 (October 4, 2001), and accompanying Issues and Decision Memorandum at Comment 2 (Final Determination). See also Final Results of the First Administrative Review of the Antidumping Duty Order on Honey from the People's Republic of China, 69 FR 25060 (May 5, 2004), and accompanying Issues and Decision Memorandum at Comment 3.

The use of The Tribune (of India) article is also consistent with the Department's recent decision in the third new shipper review of this order. See Honey from the People's Republic of China: Notice of Final Results of Antidumping Duty New Shipper Review and Final Rescission, In Part, of Antidumping Duty New Shipper Review, 69 FR 64029 (November 3, 2004) (NSR Chengdu Final Results), and accompanying Issues and Decision Memorandum at Comment 4. For a further discussion of this issue, see Factor Valuation Memo.

To value water, we used the water tariff rate, as reported on the Municipal Corporation of Greater Mumbai's website. See http://www.mcgm.gov.in/Stat%20&%20Fig/Revenue.htm. Because this data is not contemporaneous with the POR, an adjustment has been made for inflation using WPI data.

To value diesel fuel for autos, we used the rate published in International Energy Agency, Energy Prices and Taxes—Quarterly Statistics (Fourth Quarter 2003), under “Automotive Diesel for Commercial Use.” We also adjusted the surrogate values to include freight costs incurred between the shorter of the two reported distances from either (1) the closest PRC seaport to the location producing the subject merchandise, or from (2) the PRC domestic materials supplier to the location producing the subject merchandise. See Factor Valuation Memo.

To value beeswax, coal, paint, and labels we used Indian Import Statistics, contemporaneous with the POR, removing data from certain countries as discussed in the Factor Valuation Memo. We also adjusted the surrogate values to include freight costs incurred between the shorter of the two reported distances from either (1) the closest PRC seaport to the location producing the subject merchandise, or from (2) the PRC domestic materials supplier to the location producing the subject merchandise. See Factor Valuation Memo.

We valued electricity using the Annual Report (2001-2002) on The Working of State Electricity Boards & Electricity Departments of the Planning Commission (Power and Energy Division) of the Government of India (May 2002), as submitted by respondents in their May 10, 2004, submission at Exhibit 5. We inflated the value for electricity using the POR average WPI rate. See Factor Valuation Memo.

To value drums, we relied upon a price quote from an Indian steel drum manufacturer from September 2000, as provided by Petitioners in their May 10, 2004, submission at Exhibit 9. We inflated the value for drums using the POR average WPI rate, and adjusted the surrogate values to include freight costs incurred between the shorter of the two reported distances from either (1) the closest PRC seaport to the location producing the subject merchandise, or from (2) the PRC domestic materials supplier to the location producing the subject merchandise. See Factor Valuation Memo.

To value factory overhead, selling, general, and administrative expenses (SG&A), and profit, we relied upon publicly available information in the 2002-2003 annual report of MHPC, a producer of the subject merchandise in India. We applied the resulting ratios to the calculated cost of manufacture and cost of production using the same methodology established in NSR Chengdu Final Results and accompanying Issues and Decision Memorandum at Comment 5.

Because of the variability of wage rates in countries with similar levels of per capita gross domestic product, section 351.408(c)(3) of the Department's regulations requires the use of a regression-based wage rate. Therefore, to value the labor input, we used the PRC's regression-based wage rate published by Import Administration on its Web site. The source of the wage rate data on the Import Administration Web site is the Yearbook of Labour Statistics 2002, International Labour Organization (ILO), (Geneva: 2002), and GNI data as reported in World Development Indicators, The World Bank, (Washington, DC: 2003 and 2004). See Factor Valuation Memo.

To value truck freight, we used an average truck freight cost based on Indian truck freight rates on a per metric ton basis published in the Iron and Steel Newsletter, April 2002, which we adjusted for inflation. See Factor Valuation Memo.

We valued marine insurance, where necessary, based on publicly available price quotes from a marine insurance provider at http://www.rjgconsultants.com/insurance.html. We also valued brokerage and handling using the source, dated November 12, 1999, that petitioners provided in their May 10, 2004, submission. Since the brokerage rate was not contemporaneous with the POR, we adjusted the rate for inflation. See Factor Valuation Memo.

In accordance with section 351.301(c)(3)(ii) of the Department's regulations, for the final results of these new shipper reviews, interested parties may submit publicly available information to value the factors of production until 20 days following the date of publication of these preliminary results.

Currency Conversion

We made currency conversions, where necessary, pursuant to section 351.415 of the Department's regulations to U.S. dollars using the applicable average exchange rate for the POR. We based the average exchange rates on exchange rate data from the Import Administration Web site at http://ia.ita.doc.gov/exchange/index.html.

Preliminary Results of Review

We preliminarily determine that the following dumping margins exist for the period December 1, 2002, through November 30, 2003:

Exporter | Producer(s) | Margin (percent)
Anhui Honghui Foodstuff (Group) Co., Ltd | Anhui Honghui Foodstuff (Group) Co., Ltd | 10.73
Eurasia Bee's Products Co., Ltd | Eurasia Bee's Products Co., Ltd. or Chuzhou Huadi Foodstuffs Co., Ltd | 31.47
Inner Mongolia Youth Trade Development Co., Ltd | Qinhuangdao Municipal Dafeng Industrial Co., Ltd | 32.61
Jiangsu Kanghong Natural Healthfoods Co., Ltd | Jiangsu Kanghong Natural Healthfoods Co., Ltd | 29.91

The Department will disclose calculations performed in connection with the preliminary results of these reviews within five days of the date of publication of this notice in accordance with section 351.224(b). Any interested party may request a hearing within 30 days of publication of this notice in accordance with section 351.310(c) of the Department's regulations. A hearing would normally be held 37 days after the publication of this notice, or the first business day thereafter, at the U.S. Department of Commerce, 14th Street and Constitution Avenue, NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and (3) to the extent practicable, an identification of the arguments to be raised at the hearing.

Unless otherwise notified by the Department, interested parties may submit case briefs within 30 days of the date of publication of this notice in accordance with section 351.309(c)(ii) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing within 48 hours before the scheduled time. The Department will issue the final results of this new shipper review, which will include the results of its analysis of issues raised in the briefs, within 90 days from the date of the preliminary results, unless the time limit is extended.

Assessment Rates

The Department shall determine, and U.S. Customs and Border Protection (CBP) shall assess and liquidate, antidumping duties on all appropriate entries. The Department will issue appropriate appraisement instructions for the companies subject to these reviews directly to CBP within 15 days of publication of the final results of these reviews. Pursuant to section 351.212(b)(1) of the Department's regulations, we will calculate importer-specific ad valorem duty assessment rates based on the ratio of the total amount of the dumping margins calculated for the examined sales to the total entered value of those same sales. We will instruct CBP to assess antidumping duties on all appropriate entries covered by these reviews if any importer-specific assessment rate calculated in the final results of these reviews are above de minimis.

Cash-Deposit Requirements

Anhui Honghui, Eurasia, Inner Mongolia Youth, or Jiangsu Kanghong may continue to post a bond or other security in lieu of cash deposits for certain entries of subject merchandise. As Anhui Honghui and Jiangsu Kanghong have certified that they both produced and exported the subject merchandise, their bonding option is limited to such merchandise for which they are both the producer and exporter. For Eurasia, which has identified itself and Chuzhou Huadi as the producers of subject merchandise for the sales under review, Eurasia's bonding option is limited only to entries of subject merchandise exported by Eurasia that were produced by itself or Chuzhou Huadi. For Inner Mongolia Youth, which has identified QDI as the producer of subject merchandise for the sale under review, Inner Mongolia Youth's bonding option is limited to entries of subject merchandise exported by Inner Mongolia Youth that were produced by QDI. Bonding will no longer be permitted to fulfill security requirements for shipments of the subject merchandise from the PRC produced and exported by Anhui Honghui; produced by Eurasia or Chuzhou Huadi and exported by Eurasia; produced by QDI and exported by Inner Mongolia Youth; or produced and exported by Jiangsu Kanghong after publication of the final results of these new shipper reviews.

The following cash-deposit rates will be effective upon publication of the final results of these new shipper reviews for all shipments of honey from the PRC entered, or withdrawn from warehouse, for consumption on or after the publication date, as provided for by section 751(a)(2)(C) of the Act: (1) For subject merchandise produced and exported by Anhui Honghui; produced by Eurasia or Chuzhou Huadi and exported by Eurasia; produced by QDI and exported by Inner Mongolia Youth; or produced and exported by Jiangsu Kanghong, the cash-deposit rate will be that established in the final results of this review; (2) for all other subject merchandise exported by Anhui Honghui, Eurasia, Inner Mongolia Youth, and Jiangsu Kanghong, the cash-deposit rate will be the PRC country-wide rate (i.e., 183.80 percent); (3) for subject merchandise produced by Anhui Honghui but not exported by Anhui Honghui; produced by Chuzhou Huadi or Eurasia but not exported by Eurasia; produced by QDI but not exported by Inner Mongolia Youth; or produced by Jiangsu Kanghong but not exported by Jiangsu Kanghong, the cash deposit rate will be the rate applicable to the exporter; and (4) for all non-PRC exporters of subject merchandise, the cash-deposit rate will be the rate applicable to the PRC exporter that supplied that exporter. These deposit requirements, when imposed, shall remain in effect until publication of the final results of the next administrative review.

Notification to Importers

This notice also serves as a preliminary reminder to importers of their responsibility under section 351.402(f) of the Department's regulations to file a certificate regarding the reimbursement of antidumping duties prior to liquidation of the relevant entries during these review periods. Failure to comply with this requirement could result in the Secretary's presumption that reimbursement of antidumping duties occurred and the subsequent assessment of double antidumping duties.

These new shipper reviews and this notice are published in accordance with sections 751(a)(2)(B) and 777(i)(1) of the Act.

Dated: November 19, 2004.
Joseph A. Spetrini,
Acting Assistant Secretary for Import Administration.

[FR Doc. E4-3360 Filed 11-26-04; 8:45 am]

BILLING CODE 3510-DS-P